DEPARTMENT OF HEALTH AND HUMAN SERVICES

Centers for Medicare & Medicaid Services

[CMS-1466-N]

Medicare Program: Notice of Two Membership Appointments to the Advisory Panel on Hospital Outpatient Payment

AGENCY: Centers for Medicare & Medicaid Services (CMS), Department of Health and Human Services (HHS).

ACTION: Notice.

SUMMARY: This notice announces two new membership appointments to the Advisory Panel on Hospital Outpatient Payment (the Panel). The two new appointments to the Panel will each serve a 4-year period. The new members will have terms that begin on February 16, 2014 and continue through February 15, 2018. The purpose of the Panel is to advise the Secretary of the Department of Health and Human Services and the Administrator of the Centers for Medicare & Medicaid Services concerning the clinical integrity of the Ambulatory Payment Classification groups and their relative payment weights. The Panel also addresses and makes recommendations regarding supervision of hospital outpatient services. The advice provided by the Panel will be considered as we prepare the annual updates for the hospital outpatient prospective payment system.

FOR FURTHER INFORMATION CONTACT: For additional information on the Panel meeting dates, agenda topics, copy of the charter, as well as updates to the Panel's activities, search our Internet Web site: https://www.cms.gov/Regulations-and-Guidance/Guidance/FACA/AdvisoryPanelonAmbulatoryPaymentClassificationGroups.html. For other information regarding the Panel, contact Carol Schwartz, the Designated Federal Officer (DFO) at CMS, Center for Medicare, Hospital and Ambulatory Policy Group, Division of Outpatient Care, 7500 Security Boulevard, Mail Stop C4-05-17, Baltimore, MD 21244-1850, phone (410) 786-3985.

SUPPLEMENTARY INFORMATION:

I. Background

The Department of Health and Human Services (the Secretary) is required by section 1833(t)(9)(A) of the Social Security Act (the Act) (42 U.S.C. 1395l(t)(9)(A)) and section 222 of the Public Health Service Act (PHS Act) (42 U.S.C. 217a) to consult with an expert outside advisory panel on the clinical integrity of the Ambulatory Payment Classification groups and relative payment weights, which are major elements of the Medicare Hospital Outpatient Prospective Payment System (OPPS), and the appropriate supervision level for hospital outpatient services. The Panel is governed by the provisions of the Federal Advisory Committee Act (FACA) (Pub. L. 92-463), as amended (5 U.S.C. Appendix 2), which sets forth standards for the formation and use of advisory panels. The Panel Charter provides that the Panel shall meet up to 3 times annually. We consider the technical advice provided by the Panel as we prepare the proposed and final rules to update the OPPS for the following calendar year.

The Panel shall consist of a chair and up to 19 members who are full-time employees of hospitals, hospital systems, or other Medicare providers. The Secretary or a designee selects the Panel membership based upon either self-nominations or nominations submitted by Medicare providers and other interested organizations. New appointments are made in a manner that ensures a balanced membership under the FACA guidelines.

The Panel presently consists of the following members and a Chair.

• Edith Hambrick, M.D., J.D., Chair, CMS Medical Officer.

• Karen Borman, M.D., FACS.

• Kari S. Cornicelli, C.P.A., FHFMA.

• Brian D. Kavanagh, M.D., MPH.

• Scott Manaker, M.D., Ph.D.

• John Marshall, CRA, RCC, CIRCC, RT(R), FAHRA.

• Jim Nelson, M.B.A., C.P.A., FHFMA.

• Leah Osbahr, M.A., MPH.

• Jacqueline Phillips.

• Traci Rabine.

• Michael Rabovsky, M.D.

• Marianna V. Spanaki-Varela, MD, Ph.D., M.B.A.

• Gale Walker.

• Kris Zimmer.

II. Provisions of the Notice

We published a notice in the Federal Register on November 1, 2013, entitled “Medicare Program; Solicitation of Five Nominations to the Advisory Panel on Hospital Outpatient Payment (HOP, the Panel)” (78 FR 65660). The notice solicited nominations for five new members to fill the vacancies on the Panel beginning September 30, 2013. As a result of that notice, we are announcing two new members to the Panel. The Panel currently consists of 15 members. The two new Panel members appointments are for 4-year terms beginning on February 16, 2014.

New Appointments to the Panel

The two new members of the Panel with terms beginning on February 16, 2014 and continuing through February 15, 2018 are as follows:

• Wendy Resnick, FHFMA.

• Johnathan Pregler, M.D.

III. Collection of Information Requirements

This document does not impose information collection and recordkeeping requirements. Consequently, it need not be reviewed by the Office of Management and Budget under the authority of the Paperwork Reduction Act of 1995 (44 U.S.C. 35).

Dated: April 17, 2014.
Marilyn Tavenner,
Acting Administrator, Centers for Medicare & Medicaid Services.

[FR Doc. 2014-09289 Filed 4-24-14; 8:45 am]

BILLING CODE 4120-01-P